DEPARTMENT OF TRANSPORTATION

Federal Aviation Administration

Notice of Request To Release Airport Land at the Toccoa-Stephens County Airport

AGENCY: Federal Aviation Administration (FAA), DOT.

ACTION: Notice.

SUMMARY: The FAA proposes to rule and invites public comment on the request to release .73 acres of federally obligated airport property at the Toccoa-Stephens County Airport.

DATES: Comments must be received on or before January 3, 2023.

ADDRESSES: Comments on this notice may be mailed or delivered in triplicate to the FAA to the following address: Atlanta Airports District Office Attn: Joseph Robinson, Planner, 1701 Columbia Ave., Suite 220, College Park, GA 30337.

In addition, one copy of any comments submitted to the FAA must be mailed or delivered to the Toccoa-Stephens County Airport Authority, Attn: Ms. Amber McCall, P.O. Box 494, Toccoa, GA 30577.

FOR FURTHER INFORMATION CONTACT: Joseph Robinson, Airport Planner, Atlanta Airports District Office, 1701 Columbia Ave., Suite 220, College Park, Georgia 30337-2747, (404) 305-6749. The application may be reviewed in person at this same location.

SUPPLEMENTARY INFORMATION: The FAA invites public comment on the request to release a parcel of land totaling 0.73 acres at the Toccoa-Stephens County Airport. The FAA determined this request to release submitted by the Sponsor meets the procedural requirements of the FAA and the release of the property does not and will not impact future aviation needs at the airport. The FAA may approve the request, in whole or in part, no sooner than thirty days after the publication of this notice.

Issued in Atlanta, Georgia, on November 28, 2022.
Joseph Parks Preston,
Assistant Manager, Atlanta Airports District Office, Southern Region.

[FR Doc. 2022-26215 Filed 12-1-22; 8:45 am]

BILLING CODE 4910-13-P